INTERNATIONAL TRADE COMMISSION

[Investigation Nos. 701-TA-558 and 731-TA-1316 (Final)]

1-Hydroxyethylidene-1, 1-Diphosphonic Acid (“HEDP”) From China; Determinations

On the basis of the record ¹ developed in the subject investigations, the United States International Trade Commission (“Commission”) determines, pursuant to the Tariff Act of 1930 (“the Act”), that an industry in the United States is materially injured by reason of imports of 1-hydroxyethylidene-1, 1-diphosphonic acid (“HEDP”) from China, provided for in subheading 2931.90.90 of the Harmonized Tariff Schedule of the United States, that have been found by the Department of Commerce (“Commerce”) to be sold in the United States at less than fair value (“LTFV”), and to be subsidized by the government of China.

¹ The record is defined in sec. 207.2(f) of the Commission's Rules of Practice and Procedure (19 CFR 207.2(f)).

Background

The Commission, pursuant to sections 705(b) and 735(b) of the Act (19 U.S.C. 1671d(b) and 19 U.S.C. 1673d(b)), instituted these investigations effective March 31, 2016, following receipt of a petition filed with the Commission and Commerce by Compass Chemical International LLC, Smyrna, Georgia. The final phase of the investigations was scheduled by the Commission following notification of preliminary determinations by Commerce that imports of HEDP from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on November 18, 2016 (81 FR 81805). The hearing was held in Washington, DC, on March 23, 2017, and all persons who requested the opportunity were permitted to appear in person or by counsel.

The Commission made these determinations pursuant to sections 705(b) and 735(b) of the Act (19 U.S.C. 1671d(b) and 19 U.S.C. 1673d(b)). It completed and filed its determinations in these investigations on May 8, 2017. The views of the Commission are contained in USITC Publication 4686 (May 2017), entitled 1-Hydroxyethylidene-1, 1-Diphosphonic Acid (“HEDP”) from China: Investigation Nos. 701-TA-558 and 731-TA-1316 (Final).

By order of the Commission.
Issued: May 8, 2017.
Lisa R. Barton,
Secretary to the Commission.

[FR Doc. 2017-09579 Filed 5-10-17; 8:45 am]

BILLING CODE 7020-02-P